DEPARTMENT OF JUSTICE

Lodging of Consent Decree Under the Clean Water Act

Notice is hereby given that a proposed Consent Decree in United States of America; Kansas Department of Health and Environment; and Roderick L. Bremby, Secretary, Kansas Department of Health and Environment v. Cyprus Amax Minerals Company, Civil Action No. 08-1046-JTM-DWB, was lodged on February 13, 2008, with the United States District Court for the District of Kansas. The Consent Decree requires Cyprus Amax Minerals Company to pay $1,200,000.00 to resolve the claims of the United States and State of Kansas under Section 311(f) of the Clean Water Act, 33 U.S.C. 1321(f), and Kansas state law for natural resource damages at the Cherokee County Superfund Site (the “Site”).

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States v. Cyprus Amax Minerals Co., DOJ Ref. #90-11-2-1081A.

The proposed consent decree may be examined at the office of the United States Attorney, District of Kansas, 1200 Epic Center, 301 N. Main, Wichita, KS 67202. During the public comment period, the proposed consent decree may also be examined on this Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $6.00 (25 cents per page reproduction cost) payable to the United States Treasury or, if by e-mail or fax, forward a check in that amount to the Consent Decree Library at the stated address.

Robert E. Maher, Jr.,
Assistant Section Chief, Environmental Enforcement Section, Environment and Natural Resources Division.

[FR Doc. E8-3140 Filed 2-20-08; 8:45 am]

BILLING CODE 4410-15-P